ENVIRONMENTAL PROTECTION AGENCY

[FRL OP-OFA-047]

Environmental Impact Statements; Notice of Availability

Responsible Agency: Office of Federal Activities, General Information 202-564-5632 or https://www.epa.gov/nepa.

Weekly receipt of Environmental Impact Statements (EIS)

Filed November 28, 2022 10 a.m. EST Through December 5, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220180, Final, NMFS, AK, Bering Sea and Aleutian Islands Halibut Abundance-Based Management of Amendment 80 Prohibited Species Catch Limit—Amendment 123 to the Fishery Management Plan for Groundfish of the Bering Sea and Aleutian Islands Management Area, Review Period Ends: 01/09/2023, Contact: Bridget Mansfield 907-586-7221.

EIS No. 20220181, Final, TVA, TN, Cumberland Fossil Plant Retirement, Review Period Ends: 01/09/2023, Contact: Ashley Pilakowski 865-632-2256.

EIS No. 20220182, Final, WDFW, WA, ADOPTION—Puget Sound Nearshore Ecosystem Restoration, Review Period Ends: 01/09/2023, Contact: Lisa Wood 260-902-2260.

The Washington Department of Fish and Wildlife (WDFW) has adopted the United States Army Corps of Engineers' Final EIS No. 20160161, filed 7/8/2016 with the Environmental Protection Agency. The WDFW was not a cooperating agency on this project. Therefore, republication of the document is necessary under Section 1506.3(c) of the CEQ regulations.

Amended Notice:

EIS No. 20220156, Draft, BOEM, CA, Programmatic Environmental Impact Statement for Oil and Gas Decommissioning Activities on the Pacific Outer Continental Shelf, Comment Period Ends: 01/10/2023, Contact: Richard Yarde 805-384-6379. Revision to FR Notice Published 10/28/2022; Extending the Comment Period from 12/12/2022 to 01/10/2023.

Dated: December 5, 2022.
Cindy S. Barger,
Director, NEPA Compliance Division, Office of Federal Activities.

[FR Doc. 2022-26806 Filed 12-8-22; 8:45 am]

BILLING CODE 6560-50-P